DEPARTMENT OF TRANSPORTATION

Federal Aviation Administration

14 CFR Part 39

[Docket No. FAA-2008-1245; Directorate Identifier 2008-NE-27-AD; Amendment 39-15912; AD 2009-11-02]

RIN 2120-AA64

Airworthiness Directives; CFM International S.A. Model CFM56 Turbofan Engines

AGENCY: Federal Aviation Administration (FAA), DOT.

ACTION: Final rule; correction.

SUMMARY: The FAA is correcting an airworthiness directive (AD) that published in the Federal Register. That AD applies to CFM International S.A. CFM56-2, CFM56-3, CFM56-5A, CFM56-5B, CFM56-5C, and CFM56-7B series turbofan engines with certain part number (P/N) and serial number (SN) high-pressure compressor (HPC) 4-9 spools installed. In Table 1 of the AD, the HPC 4-9 spool SN GWN05AMO in the 2nd column of the Table is incorrect. This document corrects that error. In all other respects, the original document remains the same.

DATES: This final rule is effective February 24, 2012. The effective date for AD 2009-11-02 (74 FR 23305, May 19, 2009) remains June 23, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Martin Adler, Aerospace Engineer, Engine Certification Office, FAA, Engine & Propeller Directorate, 12 New England Executive Park, Burlington, MA 01803; phone: 781-238-7157; fax: 781-238-7199; email: martin.adler@faa.gov.

SUPPLEMENTARY INFORMATION: Airworthiness Directive 2009-11-02, Amendment 39-15912 (74 FR 23305, May 19, 2009), currently requires removing certain HPC 4-9 spools listed by P/N and SN in the AD.

As published, in Table 1 of the AD, the HPC 4-9 spool SN GWN05AMO in the 2nd column of the Table is incorrect.

No other part of the preamble or regulatory information has been changed; therefore, only the changed portion of the final rule is being published in the Federal Register.

The effective date of this AD remains June 23, 2009.

Correction of Regulatory Text

§ 39.13 [Corrected]

In the Federal Register of May 19, 2009, on page 23306, in the 3rd column, in Table 1, under the HPC 4-9 Spool SN heading, in the twentieth line of AD 2009-11-02; Amendment 39-15912 is corrected as follows:

* * * * *

GWN05AM0

* * * * *

Issued in Burlington, Massachusetts, on February 13, 2012.
Peter A. White,
Manager, Engine & Propeller Directorate, Aircraft Certification Service.

[FR Doc. 2012-4285 Filed 2-23-12; 8:45 am]

BILLING CODE 4910-13-P